DEPARTMENT OF ENERGY

Federal Energy Regulatory Commission

Combined Notice of Filings

Thursday, March 12, 2009.

Take notice that the Commission has received the following Natural Gas Pipeline Rate and Refund Report filings:

Docket Numbers: RP09-391-001.

Applicants: Columbia Gas Transmission, LLC.

Description: Columbia Gas Transmission, LLC submits Second Revised Sheet 25 et al. to its FERC Gas Tariff, Third Revised Volume 1, to be effective 4/1/09.

Filed Date: 03/09/2009.

Accession Number: 20090310-0068.

Comment Date: 5 p.m. Eastern Time on Wednesday, March 18, 2009.

Docket Numbers: RP09-393-001.

Applicants: Columbia Gas Transmission, LLC.

Description: Columbia Gas Transmission, LLC submits First Revised Sheet 37 et al. to FERC Gas Tariff, Third Revised Volume 1.

Filed Date: 03/09/2009.

Accession Number: 20090310-0067.

Comment Date: 5 p.m. Eastern Time on Wednesday, March 18, 2009

Docket Numbers: RP09-397-001.

Applicants: Columbia Gas Transmission, LLC.

Description: Columbia Gas Transmission, LLC submits Third Revised Sheet 25 et al. to its FERC Gas Tariff, Third Revised Volume 1, to be effective 4/1/09.

Filed Date: 03/09/2009.

Accession Number: 20090310-0066.

Comment Date: 5 p.m. Eastern Time on Wednesday, March 18, 2009.

Docket Numbers: RP09-399-001.

Applicants: Dominion Cove Point LNG, LP.

Description: Dominion Cove Point LNG, LP submits Twelfth Revised Sheet 10 et al. to FERC Gas Tariff, Original Volume 1, to be effective 4/1/09.

Filed Date: 03/05/2009.

Accession Number: 20090306-0035.

Comment Date: 5 p.m. Eastern Time on Wednesday, March 18, 2009.

Docket Numbers: RP09-442-000.

Applicants: Columbia Gas Transmission, LLC.

Description: Columbia Gas Transmission, LLC submits non-conforming FSS Service Agreements 6890 et al. with City of Charlottesville, Virginia.

Filed Date: 03/09/2009.

Accession Number: 20090310-0069.

Comment Date: 5 p.m. Eastern Time on Monday, March 23, 2009.

Docket Numbers: RP09-443-000.

Applicants: Empire Pipeline, Inc.

Description: Empire Pipeline, Inc. submits its initial Deferred State Income Tax Balance Report pursuant to Section 21.5(a) of the GT&C of its FERC Gas Tariff in RP09-443.

Filed Date: 03/10/2009.

Accession Number: 20090310-5061.

Comment Date: 5 p.m. Eastern Time on Monday, March 23, 2009.

Docket Numbers: RP09-444-000.

Applicants: Wyckoff Gas Storage Company, LLC.

Description: Wyckoff Gas Storage Company, LLC submits Original Sheet 1 et al. to FERC Gas Tariff, Original Volume 1 in compliance with the Commission's Order 712.

Filed Date: 02/20/2009.

Accession Number: 20090223-0028.

Comment Date: 5 p.m. Eastern Time on Wednesday, March 18, 2009.

Docket Numbers: RP09-445-000.

Applicants: Questar Pipeline Company.

Description: Questar Pipeline Company submits First Revised Sheet 172B to FERC Gas Tariff, First Revised Volume 1.

Filed Date: 03/10/2009.

Accession Number: 20090311-0051.

Comment Date: 5 p.m. Eastern Time on Monday, March 23, 2009.

Docket Numbers: RP09-446-000.

Applicants: Ozark Gas Transmission, L.L.C.

Description: Ozark Gas Transmission, LLC submits First Revised Sheet 223 to FERC Gas Tariff, First Revised Volume 1, to be effective 4/1/09.

Filed Date: 03/10/2009.

Accession Number: 20090311-0052.

Comment Date: 5 p.m. Eastern Time on Monday, March 23, 2009.

Docket Numbers: RP09-447-000.

Applicants: Monroe Gas Storage Company, LLC.

Description: Monroe Gas Storage Company, LLC submits Sheet 1 through 346, plus Title Sheet to FERC Gas Tariff, Original Volume 1 and Non Conforming Service Agreements to comply with the Commission's 12/21/07 Order.

Filed Date: 03/10/2009.

Accession Number: 20090311-0065.

Comment Date: 5 p.m. Eastern Time on Monday, March 23, 2009.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-6083 Filed 3-19-09; 8:45 am]

BILLING CODE 6717-01-P